DEPARTMENT OF DEFENSE

United States Marine Corps; Privacy Act of 1974; System of Records

AGENCY: United States Marine Corps, DoD.

ACTION: Notice to delete a system of records notices.

SUMMARY: The U.S. Marine Corps is deleting a system of records notices from its inventory of records systems subject to the Privacy Act of 1974, as amended (5 U.S.C. 552a).

DATES: Effective March 4, 2008.

ADDRESSES: Send comments to Headquarters, U.S. Marine Corps, FOIA/PA Section (CMC-ARSE), 2 Navy Annex, Room 1005, Washington, DC 20380-1775.

FOR FURTHER INFORMATION CONTACT: Ms. Tracy D. Ross at (703) 614-4008.

SUPPLEMENTARY INFORMATION: The U.S. Marine Corps' records systems notices for records systems subject to the Privacy Act of 1974 (5 U.S.C. 552a), as amended, have been published in the Federal Register and are available from the address above.

The U.S. Marine Corps proposes to delete a system of records notices from its inventory of record systems subject to the Privacy Act of 1974 (5 U.S.C. 552a), as amended. The changes to the system of records are not within the purview of subsection (r) of the Privacy Act of 1974 (5 U.S.C. 552a), as amended, which requires the submission of new or altered systems reports.

Dated: February 26, 2008.
L.M. Bynum,
Alternate OSD Federal Register Liaison Officer, Department of Defense.

Deletions

MIN00002

System Name:

POW/MIA Intelligence Analysis and Debrief Files.

Reason:

DUSDP 11—POW/Missing Personnel Office Files covers the collections all records including operational and informational reports, biographic records, personal statements and correspondence, etc., about all the prisoners of war or missing personnel while affiliated with the Military services of the United States.

Accordingly, since the notices are redundant, MIN00002 is no longer required.

[FR Doc. E8-4086 Filed 3-3-08; 8:45 am]

BILLING CODE 5001-06-P